JUDICIAL CONFERENCE OF THE UNITED STATES

Hearings of the Judicial Conference Advisory Committee on Rules of Bankruptcy Procedure; Federal Register Citation of Previous Announcement: 78 FR 49768.

AGENCY: Judicial Conference of the United States, Advisory Committee on Rules of Bankruptcy Procedure.

ACTION: Notice of Cancellation of Open Hearing.

SUMMARY: The following public hearing on proposed amendments to the Federal Rules of Bankruptcy Procedure has been canceled: Bankruptcy Rules Hearing, January 31, 2014, Washington, DC

FOR FURTHER INFORMATION CONTACT: Jonathan C. Rose, Secretary and Chief Rules Officer, Rules Committee Support Office, Administrative Office of the United States Courts, Washington, DC 20544, telephone (202) 502-1820.

Dated: January 3, 2014.
Jonathan C. Rose,
Secretary and Chief Rules Officer.

[FR Doc. 2014-00112 Filed 1-7-14; 8:45 am]

BILLING CODE 2210-55-P